DEPARTMENT OF THE INTERIOR

Bureau of Land Management

[WY-040-1320-EL; WYW154595]

Notice of Availability of Decision Record for the Final Environmental Assessment, Ten Mile Rim Coal Lease by Application Tract, WY

AGENCY: Bureau of Land Management, Interior.

ACTION: Notice of availability of decision record.

SUMMARY: In accordance with the National Environmental Policy Act of 1969, the Bureau of Land Management (BLM) announces the availability of the Decision Record (DR) for the Final Environmental Assessment (FEA); Ten Mile Rim Coal Lease By Application (LBA) Tract.

ADDRESSES: The document will be available electronically on the following Web site: http://www.wy.blm.gov/. Copies of the DR are available for public inspection at the following BLM office locations:

• Bureau of Land Management, Wyoming State Office, 5353 Yellowstone Road, Cheyenne, Wyoming 82009.

• Bureau of Land Management, Rock Springs Field Office, 280 Highway 191 North, Rock Springs, Wyoming 82901.

FOR FURTHER INFORMATION CONTACT: Mr. Bob Janssen, Wyoming Coal Coordinator, at (307) 775-6206 or Ms. Julie Weaver, Land Law Examiner, at (307) 775-6260. Both Mr. Janssen's and Ms. Weaver's offices are located at the BLM Wyoming State Office, 5353 Yellowstone Road, Cheyenne, Wyoming 82009.

SUPPLEMENTARY INFORMATION: As stated in the FEA, a DR will be issued for the Federal coal tract considered in the FEA. The DR covered by this Notice of Availability (NOA) is for coal tract Ten Mile Rim (WYW154595) and addresses leasing an estimated 43 million tons of in-place Federal coal administered by the BLM Rock Springs Field Office underlying approximately 2242.18 acres in Sweetwater County, Wyoming. BLM's decision was to approve the Selected Alternative. A competitive lease sale will be announced in the Federal Register at a later date.

The DR was signed by the Wyoming State Director. Parties in interest have the right to appeal that decision pursuant to 43 CFR part 4, within thirty (30) days from the date of publication of this NOA in the Federal Register. The DR contains instructions on taking appeals to the Interior Board of Land Appeals.

Dated: August 23, 2004.
Alan L. Kesterke,
Associate State Director.

[FR Doc. 04-22006 Filed 9-29-04; 8:45 am]

BILLING CODE 4310-22-P